ADVISORY COUNCIL ON HISTORIC PRESERVATION

Notice of Meeting

AGENCY: Advisory Council on Historic Preservation.

ACTION: Notice of Meeting.

SUMMARY: Notice is hereby given that the Advisory Council on Historic Preservation (ACHP) will meet on Friday, May 19, 2006. The meeting will be held in Salon F, Salt Lake City Marriott Downtown, 75 South West Temple, Salt Lake City, Utah, beginning at 8:30 a.m.

The ACHIP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native American; and eight non-Federal members appointed by the President.

The agenda for the meeting includes the following:

Call to Order 8:30 a.m.

I. Chairman's Welcome

II. Swearing In Ceremony

III. Preserve America Community Recognition Event

IV. Preserve America Program Status Report

A. “The Preserve America Executive Order Report to the President”—Next Steps

B. Preserve America Summit

V. Energy Policy Act Discussion

VI. Report of the Preservation Initiatives Committee

A. Heritage Tourism Issues

B. Legislation

VII. Report of the Federal Agency Programs Committee

A. Update on Gulf Coast Recovery Efforts

B. Agency Program Issues

VIII. Report of the Communications, Education, and Outreach Committee

A. Business Meeting Recognition Events

B. 2007 Preserve America Presidential Award Outreach

IX. Report of the Native American Advisory Group

X. Report of the Affordable Housing and Historic Preservation Task Force

XI. Report of the Base Realignment and Closure Task Force

XII. Chairman's Report

A. Strategic Planning Process Schedule and Goals

B. ACHP Alumni Foundation

C. Legislative Issues

1. ACHP Reauthorization Legislation

XIII. Executive Director's Report

XIV. New Business

XV. Adjourn

Note: The meetings of the ACHP are open to the public. If you need special accommodations due to a disability, please contact the Advisory Council on Historic Preservation, 1100 Pennsylvania Avenue, NW., Room 809, Washington, DC, 202-606-8503, at least seven (7) days prior of the meeting.

FOR FURTHER INFORMATION CONTACT: Additional information concerning the meeting is available from the Executive Director, Advisory Council on Historic Preservation, 1100 Pennsylvania Avenue, NW., #809, Washington, DC 20004.

Ralston Cox,
Acting Executive Director.

[FR Doc. 06-4300 Filed 5-8-06; 8:45 am]

BILLING CODE 4310-KY-M